DEPARTMENT OF LABOR

Employment and Training Administration

[TA-W-38,100]

Farah/Savane Intl., El Paso, TX; Notice of Termination of Investigation

Pursuant to section 221 of the Trade Act of 1974, an investigation was initiated on September 18, 2000 in response to a petition filed on behalf of workers at Farah/Savane Intl., El Paso, Texas.

The petitioning group of workers is subject to an ongoing investigation for which a determination has not yet been issued (TA-W-37,999). Consequently, further investigation in this case would serve no purpose, and the investigation has been terminated.

Signed in Washington, DC this 25th day of September, 2000.
Edward A. Tomchick,
Director, Division of Trade Adjustment Assistance.

[FR Doc. 00-26730 Filed 10-17-00; 8:45 am]

BILLING CODE 4510-30-M